DEPARTMENT OF ENERGY

Federal Energy Regulatory Commission

[Project No. 1517-028]

Monroe City; Notice of Intent To File License Application, Filing of Pre-Application Document, and Approving Use of the Traditional Licensing Process

a. Type of Filing: Notice of Intent to File License Application and Request to Use the Traditional Licensing Process (TLP).

b. Project No.: 1517-028.

c. Dated Filed: July 29, 2022.

d. Submitted By: Monroe City.

e. Name of Project: Upper Monroe Hydroelectric Project.

f. Location: The Upper Monroe Project is located on First Lefthand Fork of Monroe, Shingle, and Serviceberry Creeks in Sevier County, Utah. The project is located almost entirely on federal land within the Fishlake National Forest.

g. Filed Pursuant to: 18 CFR 5.3 of the Commission's regulations.

h. Applicant Contact: Jenna Jorgensen, Environmental Coordinator, Jones & DeMille Engineering, 1535 S 100 W, Richfield, UT 84701, (435) 896-8266, Jenna.j@jonesanddemille.com.

i. FERC Contact: Everard Baker at (202) 502-8554 or everard.baker@ferc.gov.

j. Monroe City filed its request to use the TLP on July 29, 2022, and provided public notice of its request on July 27, 2022. In a letter dated September 26, 2022, the Director of the Division of Hydropower Licensing approved Monroe City's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the Utah State Historic Preservation Officer, as required by section 106, National Historic Preservation Act, and the implementing regulations of the Advisory Council on Historic Preservation at 36 CFR 800.2.

l. With this notice, we are designating Monroe City as the Commission's non-federal representative for carrying out informal consultation, pursuant to section 7 of the Endangered Species Act and section 305(b) of the Magnuson-Stevens Fishery Conservation and Management Act; and consultation pursuant to section 106 of the National Historic Preservation Act.

m. The applicant filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY).

o. The applicant states its unequivocal intent to submit an application for a subsequent license for Project No. 1517. Pursuant to 18 CFR 16.8, 16.9, and 16.10 each application for a subsequent license and any competing license applications must be filed with the Commission at least 24 months prior to the expiration of the existing license. All applications for license for this project must be filed by July 31, 2025.

p. Register online at https://ferconline.ferc.gov/eSubscription.aspx to be notified via email of new filing and issuances related to this or other pending projects. For assistance, contact FERC Online Support.

Dated: September 26, 2022.
Kimberly D. Bose,
Secretary.

[FR Doc. 2022-21287 Filed 9-29-22; 8:45 am]

BILLING CODE 6717-01-P